DEPARTMENT OF AGRICULTURE

Farm Service Agency

2002 Crop Year Crambe and Sesame Seed Marketing Assistance Loan Deficiency Payments, and Direct and Counter Cyclical Program

AGENCIES: Commodity Credit Corporation, Farm Service Agency, USDA.

ACTION: Notice.

SUMMARY: This notice announces that the Department of Agriculture is exercising its discretionary authority to designate crambe and sesame seed as eligible commodities for the 2002 crop year for the Direct and Counter Cyclical Program (DCP) and for Marketing Assistance Loans (MAL) and Loan Deficiency Payments (LDP) from the Commodity Credit Corporation (CCC). The intended effect of this notice is to inform the public of the USDA decision designating crambe and sesame seed as eligible oilseeds.

DATES: To be eligible, producers of 2002-crop crambe or sesame seed must:

(1) Submit a request for MAL and LDP at their local Farm Service Agency Service Center by close of business on March 31, 2003.

(2) Make their DCP base acreage election before May 1, 2003.

FOR FURTHER INFORMATION CONTACT: Kimberly Graham, Price Support Division, FSA, USDA, 1400 Independence Avenue, SW., Room 4789, STOP 0512, Washington, DC 20250-0514, by phone at (202) 720-7901, or e-mail at KGraham@wdc.usda.gov.

SUPPLEMENTARY INFORMATION:

MAL and LDP Eligibility

Section 1421.3 of 7 CFR part 1421 defines “Loan commodities” to include “other crops designated by CCC,” and further defines “other crops designated by CCC,” to be, “(3) As otherwise designated by CCC.” Also, section 1421.5(a) provides that eligible loan commodities include, “* * * and other crops designated by CCC.” Accordingly, this notice announces the Agency's extension of MAL and LDP eligibility to include crambe and sesame seed for the crop year 2002.

Also, for the loan deficiency payments for 2002 crop crambe and sesame seed only, this notice announces that the Agency will waive section 1421.6(a)(1) of 7 CFR part 1421, which requires a producer to have beneficial interest in the commodity that is tendered to CCC for a marketing assistance loan or loan deficiency payment. Producers who lost beneficial interest in the 2002-crop crambe or sesame seed are eligible for LDP's. For those LDP requests submitted after beneficial interest has been lost, the LDP rate will be based on the date beneficial interest was lost. Section 1421.6(a)(1) must be complied with and beneficial interest maintained in all other 2002-crop year commodities and for all commodities, including crambe and sesame seed, for a loan or LDP in subsequent years.

DCP Eligibility

Section 1412.103 of 7 CFR part 1412 defines “Covered commodity” to include, “* * * other oilseeds as determined by the Secretary.” and defines “Other oilseeds” to include the words “* * * or, if determined and announced by CCC, another oilseed.” This notice announces the extension of the CCC Direct and Counter Cyclical Program under 7 CFR part 1412 to include crambe and sesame seed as eligible commodities for the crop year 2002.

FSA and CCC are taking these actions under section 1421.2(e) of 7 CFR part 1421, and section 1412.102(e) of 7 CFR part 1412, which allow exceptions to selected program requirements. The intent is to encourage development of alternative enterprises for producers, greater planting flexibility and rural development. All other requirements for program eligibility in 7 CFR parts 1412 or 1421 will apply.

Sign-up for marketing assistance loans and requests for loan deficiency payments (LDP) must be completed by March 31, 2003. Marketing assistance loan applications, and LDP request forms are available electronically through the USDA eForms website for downloading. Base elections for DCP, loan applications and LDP request forms may be submitted at the FSA county offices.

Signed at Washington, DC, on March 27, 2003.
James R. Little,
Administrator, Farm Service Agency, Executive Vice President, Commodity Credit Corporation.

[FR Doc. 03-7937 Filed 3-28-03; 2:22 pm]

BILLING CODE 3410-05-P